DEPARTMENT OF TRANSPORTATION

Federal Aviation Administration

14 CFR Part 39

[Docket No. FAA-2018-0738; Product Identifier 2017-SW-132-AD; Amendment 39-19355; AD 2018-17-01]

RIN 2120-AA64

Airworthiness Directives; Bell Helicopter Textron, Inc. (Bell) Helicopters

AGENCY: Federal Aviation Administration (FAA), DOT.

ACTION: Final rule; request for comments.

SUMMARY: We are superseding Airworthiness Directive (AD) 2017-15-02 for Bell Model 212 and 412 helicopters. AD 2017-15-02 required replacing certain oil and fuel check valves and prohibited installing them on any helicopter. This AD retains the requirements of AD 2017-15-02 and adds certain model helicopters to the applicability. This AD was prompted by the discovery of an error in the affected models. We are issuing this AD to address the unsafe condition on these products.

DATES: This AD is effective September 5, 2018.

We must receive any comments on this AD by October 5, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this final rule, contact Bell Helicopter Textron, Inc., P.O. Box 482, Fort Worth, TX 76101; telephone (817) 280-3391; fax (817) 280-6466; or at http://www.bellcustomer.com/files/. You may view this service information at the FAA, Office of the Regional Counsel, Southwest Region, 10101 Hillwood Pkwy, Room 6N-321, Fort Worth, TX 76177. For information on the availability of this material at the FAA, call (817) 222-5110.

Examining the AD Docket

You may examine the AD docket on the internet at http://www.regulations.gov by searching for and locating Docket No. FAA-2018-0738; or in person at Docket Operations between 9 a.m. and 5 p.m., Monday through Friday, except Federal holidays. The AD docket contains this final rule, the regulatory evaluation, any comments received, and other information. The street address for Docket Operations (phone: 800-647-5527) is listed above. Comments will be available in the AD docket shortly after receipt.

FOR FURTHER INFORMATION CONTACT: Jurgen E. Priester, Aviation Safety Engineer, DSCO Branch, Compliance and Airworthiness Division, FAA, 10101 Hillwood Pkwy., Fort Worth, TX 76177; telephone (817) 222-5159; email jurgen.e.priester@faa.gov.

SUPPLEMENTARY INFORMATION:

Discussion

We issued AD 2017-15-02, Amendment 39-18962 (82 FR 33439, July 20, 2017), (“AD 2017-15-02”). AD 2017-15-02 applied to Bell Model 212 and 412 helicopters with an engine oil or fuel check valve part number (P/N) 209-062-520-001 or P/N 209-062-607-001 that was manufactured by Circor Aerospace, marked “Circle Seal” and marked with a manufacturing date code of “10/11” (October 2011) through “03/15” (March 2015) installed. AD 2017-15-02 resulted from a report that certain part numbered 209-062-520-001 check valves manufactured by Circor Aerospace as replacement parts have been found cracked or leaking on several Bell Model 427 and Model 429 helicopters. These check valves may be installed as engine oil check valves on Bell Model 212 helicopters. Similar check valves, part number 209-062-607-001, may be installed as fuel check valves on Bell Model 212 or 412 helicopters. These check valves may have a condition induced during assembly that can cause the valve body to crack, resulting in oil or fuel leakage. This condition could result in loss of lubrication or fuel to the engine, failure of the engine or a fire, and subsequent loss of control of the helicopter. To address this condition, AD 2017-15-02 required replacing the engine oil and fuel check valves and prohibited installing an affected check valve on any helicopter.

Actions Since AD 2017-15-02 Was Issued

Since we issued AD 2017-15-02, we discovered an error in that Bell Model 412CF and 412EP helicopters should have been included in the applicability of the AD. Additionally, Bell revised its service information to exclude check valves identified with “TQL” regardless of manufacture date. Check valves marked “TQL” were manufactured using a different process and are not affected by the unsafe condition. Therefore, we are superseding AD 2017-15-02 to add Bell Model 412CF and 412EP helicopters to the applicability and to exclude check valves marked “TQL.”

Related Service Information

We reviewed Bell Alert Service Bulletin (ASB) 212-15-153, Revision A, dated October 6, 2017 (212-15-153), and Bell ASB 212-15-155, Revision A, dated October 6, 2017 (212-15-155), for Model 212 helicopters; Bell ASB 412-15-165, Revision A, dated October 6, 2017 (412-15-165), and Bell ASB 412-15-168, Revision A, dated October 6, 2017 (ASB 412-15-168), for Model 412 and 412 EP helicopters; and Bell ASB 412CF-15-57, Revision A, dated October 6, 2017 (412CF-15-57), and Bell ASB 412CF-15-59, Revision A, dated October 6, 2017 (412CF-15-59), for Model 412CF helicopters. ASB 212-15-153, ASB 412-15-165, and ASB 412-CF-15-57 contain procedures for inspecting and replacing engine oil check valve P/N 209-062-520-001. ASB 212-15-155, ASB 412-15-168, and ASB 412CF-15-59 contain procedures for inspecting and replacing fuel check valve P/N 209-062-607-001. Revision A of the service information clarifies that check valves identified with “TQL” are not affected by the ASB procedures.

FAA's Determination

We are issuing this AD because we evaluated all the relevant information and determined the unsafe condition described previously is likely to exist or develop in other products of these same type designs.

AD Requirements

This AD requires, within 25 hours time-in-service (TIS), replacing the engine oil and fuel check valves. This AD also prohibits installing on any helicopter a check valve P/N 209-062-520-001 or P/N 209-062-607-001 that was manufactured by Circor Aerospace, marked “Circle Seal” and marked with a manufacturing date code of “10/11” (October 2011) through “03/15” (March 2015), except if “TQL” is marked next to the manufacturing date code.

FAA's Justification and Determination of the Effective Date

An unsafe condition exists that requires the immediate adoption of this AD without providing an opportunity for public comments prior to adoption. The FAA has found that the risk to the flying public justifies waiving notice and comment prior to adoption of this rule because the actions required by this AD must be accomplished within 25 hours TIS, a very short interval for helicopters used in firefighting and logging operations. Therefore, we find good cause that notice and opportunity for prior public comment are impracticable. In addition, for the reason stated above, we find that good cause exists for making this amendment effective in less than 30 days.

Comments Invited

This AD is a final rule that involves requirements affecting flight safety, and we did not provide you with notice and an opportunity to provide your comments before it becomes effective. However, we invite you to send any written data, views, or arguments about this final rule. Send your comments to an address listed under the ADDRESSES section. Include the docket number FAA-2018-0738 and product identifier 2017-SW-132-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 161 (59 Model 212 and 102 Model 412) helicopters of U.S. Registry.

We estimate that operators may incur the following costs in order to comply with this AD. At an average labor rate of $85, replacing each check valve (engine oil or fuel) will require about 1 work-hour, and required parts will cost $85. For the Model 212, we estimate a total cost of $340 per helicopter and $20,060 for the U.S. fleet. For the Model 412, we estimate a total cost of $170 per helicopter and $17,340 for the U.S. fleet.

According to Bell's service information some of the costs of this AD may be covered under warranty, thereby reducing the cost impact on affected individuals. We do not control warranty coverage by Bell. Accordingly, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-15-02, Amendment 39-18962 (82 FR 33439, July 20, 2017) and adding the following new AD:

2018-17-01 Bell Helicopter Textron, Inc.: Amendment 39-19355; Docket No. FAA-2018-0738; Product Identifier 2017-SW-132-AD.

(a) Effective Date

This AD is effective September 5, 2018.

(b) Affected ADs

This AD replaces AD 2017-15-02, Amendment 39-18962 (82 FR 33439, July 20, 2017).

(c) Applicability

This AD applies to Bell Model 212, 412, 412CF, and 412EP helicopters, certificated in any category, with an engine oil check valve part number (P/N) 209-062-520-001 or fuel check valve P/N 209-062-607-001 manufactured by Circor Aerospace, marked “Circle Seal” and with a manufacturing date code of “10/11” (October 2011) through “03/15” (March 2015), except a check valve marked “TQL” next to the manufacturing date code, installed.

(d) Subject

Joint Aircraft Service Component (JASC) Codes: 7900 Engine Oil System and 2800 Aircraft Fuel System.

(e) Unsafe Condition

This AD defines the unsafe condition as a cracked or leaking check valve, which could result in loss of lubrication or fuel to the engine, failure of the engine or a fire, and subsequent loss of control of the helicopter.

(f) Compliance

Comply with this AD within the compliance times specified, unless already done.

(g) Required Actions

(1) Within 25 hours time-in-service:

(i) Replace each fuel check valve.

(ii) For Model 212, 412CF, and 412EP helicopters, replace each engine oil check valve.

(2) After the effective date of this AD, do not install on any helicopter a check valve P/N 209-062-520-001 or P/N 209-062-607-001 manufactured by Circor Aerospace, marked “Circle Seal” and with a manufacturing date code of “10/11” (October 2011) through “03/15” (March 2015), except for a check valve marked “TQL” next to the manufacturing date code.

(h) Alternative Methods of Compliance (AMOCs)

(1) The Manager, DSCO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i) of this AD.

(2) Before using any approved AMOC, notify your appropriate principal inspector, or lacking a principal inspector, the manager of the local flight standards district office/certificate holding district office.

(i) Related Information

For more information about this AD, contact Jurgen E. Priester, Aviation Safety Engineer, DSCO Branch, Compliance and Airworthiness Division, FAA, 10101 Hillwood Pkwy., Fort Worth, TX 76177; telephone (817) 222-5159; email jurgen.e.priester@faa.gov.

Issued in Fort Worth, Texas, on August 10, 2018.
Lance T. Gant,
Director, Compliance & Airworthiness Division, Aircraft Certification Service.

[FR Doc. 2018-17905 Filed 8-20-18; 8:45 am]

BILLING CODE 4910-13-P